DEPARTMENT OF ENERGY

Federal Energy Regulatory Commission

[Docket No. PF09-8-000]

Transcontinental Gas Pipe Line Company, LLC; Notice of Intent To Prepare an Environmental Impact Statement for the Planned Rockaway Delivery Lateral Project, Request for Comments on Environmental Issues, and Notice of Public Scoping Meetings

The staff of the Federal Energy Regulatory Commission (FERC or Commission) will prepare an environmental impact statement (EIS) that will discuss the environmental impacts of the Rockaway Delivery Lateral Project involving construction and operation of facilities by Transcontinental Gas Pipe Line Company, LLC (Transco) in Queens and Kings Counties, New York. The Commission will use this EIS in its decisionmaking process to determine whether the project is in the public convenience and necessity.

This notice announces the opening of the scoping process the Commission will use to gather input from the public and interested agencies on the project. Your input will help the Commission staff determine what issues they need to evaluate in the EIS. Please note that the scoping period will close on June 25, 2012.

You may submit comments in written form or verbally. Further details on how to submit written comments are in the Public Participation section of this notice. In lieu of or in addition to sending written comments, the Commission invites you to attend the public scoping meetings scheduled as follows:

Date and time | Location
June 12, 2012, 7:00 p.m. EDT | Aviator Sports & Events Center, 3159 Flatbush Avenue, Brooklyn, NY 11234.
June 13, 2012, 7:00 p.m. EDT | Knights of Columbus Rockaway Council 2672, 333 Beach 90 Street, Rockaway Beach, NY 11693.

The public meetings are designed to provide you with more detailed information and another opportunity to offer your comments on the planned project. Transco representatives will be present one hour before each meeting to describe their proposal, present maps, and answer questions. Interested groups and individuals are encouraged to attend the meetings and to present comments on the issues they believe should be addressed in the EIS. A transcript of each meeting will be made so that your comments will be accurately recorded.

This notice is being sent to the Commission's current environmental mailing list for this project. State and local government representatives should notify their constituents of this planned project and encourage them to comment on their areas of concern.

A fact sheet prepared by the FERC entitled “An Interstate Natural Gas Facility on My Land? What Do I Need To Know?” is available for viewing on the FERC Web site (www.ferc.gov). This fact sheet addresses a number of typically-asked questions, including how to participate in the Commission's proceedings.

Summary of the Planned Project

Transco plans to modify its existing pipeline system in Lower New York Bay by adding a new pipeline lateral and a meter and regulating (M&R) station. Specifically, Transco plans to construct and operate 3.20 miles of 26-inch-diameter pipeline from its existing Lower New York Bay Lateral (LNYBL), in the Atlantic Ocean, to an onshore interconnect with the National Grid pipeline system on the Rockaway Peninsula in Queens County, New York. At the offshore interconnect with the LNYBL Transco would also install a subsea tie-in assembly that includes a pig ¹ launcher and main line valve.

¹ A pig is an internal tool that can be used to clean and dry a pipeline and/or to inspect the pipeline for damage. A pig launcher is the launching station from which the pig is launched.

Transco would construct the first 2.17 miles of offshore pipeline from the LNYBL toward shore using conventional marine lay and trenching methods. The remaining 0.65 mile of offshore pipeline, and all but 0.03 mile of onshore pipeline to the planned onshore interconnect with National Grid's system on the Rockaway Peninsula would be installed using horizontal directional drill (HDD) technology. Use of the HDD method would disturb a small amount of land at the HDD entry location, which would be located on the Tri-borough Bridge and Tunnel Authority's right-of-way, and a small amount of seabed at the offshore HDD exit location. However, the land and seabed between the HDD entry and exit locations, which includes the beach and other Gateway National Recreation Area lands, would not be disturbed or directly impacted.

Transco would construct the new M&R station inside two existing, unused hangars within the Gateway National Recreation Area that are located on the southern end of Floyd Bennett Field. Transco would also install inlet and outlet piping to connect the M&R station to a proposed National Grid pipeline along Flatbush Avenue. A general overview of the major project facilities is shown in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Transco indicates that the planned project would provide increased natural gas supplies and enhanced system reliability to natural gas distributors throughout the New York City area. Once completed, the project would be capable of delivering up to 647 thousand dekatherms per day (MDth/d) of natural gas (including 100 MDth/d of new incremental supply) from Transco's pipeline system to National Grid's distribution system in Brooklyn, New York. The lateral would also give National Grid the flexibility to shift existing natural gas supplies from its existing Long Beach delivery point to the new delivery point on Flatbush Avenue. This, in turn, would alleviate the existing capacity constraints on National Grid's system in the Rockaways.

Pending project approvals, Transco anticipates beginning construction in September 2013, with a projected in-service date of November 2014. The intervening period between receipt of agency approvals and commencement of construction would be used to obtain congressional authorization and final National Park Service permits and easements in order to allow the project to occur within the Gateway National Recreation Area.

The EIS Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS we will discuss impacts that could occur as a result of the construction and operation of the planned project under these general headings:

• Geology and soils;

• Water resources, fisheries, and wetlands;

• Vegetation and wildlife;

• Endangered and threatened species;

• Land use;

• Socioeconomics;

• Cultural resources;

• Air quality and noise;

• Public safety; and

• Cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 7.

With this notice, we are asking agencies with jurisdiction by law and/or special expertise with respect to the environmental issues related to this project to formally cooperate with us in the preparation of the EIS.⁴ Agencies that would like to request cooperating agency status should follow the instructions for filing comments provided under the Public Participation section of this notice. Currently, the NPS, U.S. Environmental Protection Agency (EPA), and U.S. Army Corps of Engineers (COE) have expressed their intention to participate as cooperating agencies in the preparation of the EIS to satisfy their NEPA responsibilities related to this project.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Office(s), and to solicit their views and those of other government agencies, interested Indian tribes, and the public on the project's potential effects on historic properties.⁵ We will define the project-specific Area of Potential Effects (APE) in consultation with the SHPO(s) as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register for Historic Places.

Currently Identified Environmental Issues

We have already identified several issues that we think deserve attention based on a preliminary review of the planned facilities and the environmental information provided by Transco. This preliminary list of issues may change based on your comments and our analysis.

• Water Resources:

○ Impacts on off-shore and near-shore water quality.

○ Assessment of contingency plans for inadvertent releases of drilling fluids associated with horizontal directional drills.

○ Assessment of alternative marine construction methods.

• Cultural Resources:

○ Consideration of the special historic status of Jacob Riis Park and Floyd Bennett Field.

○ Impact of the planned M&R facility on the historic hangers at Floyd Bennett Field.

• Land Use, Recreation and Special Interest Areas, and Visual Resources:

○ Impacts on the Gateway National Recreation Area and existing uses within the recreation area, including Jacob Riis Park, Floyd Bennett Field, and Jamaica Bay National Wildlife Refuge.

○ Impacts on marine navigation and use of offshore waters.

• Air Quality and Noise:

○ Effects on the local air quality and noise environment from construction and operation of the planned facilities.

• Reliability and Safety:

○ Assessment of hazards associated with natural gas pipelines and aboveground facilities.

○ Potential for project-related fire hazards.

○ Evacuation plans

• Alternatives:

○ Assessment of existing systems, alternative system configurations, and alternative routes to reduce or avoid environmental impacts.

○ Evaluation of alternatives to avoid the Gateway National Recreation Area.

○ Assessment of alternative metering and regulating station locations.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before June 25, 2012.

(1) For your convenience, there are three methods you can use to submit your comments to the Commission. In all instances, please reference the project docket number (PF09-8-000) with your submission. The Commission encourages electronic filing of comments and has expert staff available to assist you at (202) 502-8258 or efiling@ferc.gov. You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (Appendix 2).

Becoming an Intervenor

Once Transco files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are available on the Commission's Web site at: http://www.ferc.gov/help/how-to/intervene.asp. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF09-8). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Finally, Transco has established an Internet Web site for its project at http://www.energy.williams.com/Rockaway. The site includes a project overview, contact information, regulatory overview, and construction procedures. Transco will continue to update its Web site with information about the project. You can also request additional information by calling Transco at (866) 455-9103.

Dated: May 25, 2012.
Kimberly D. Bose,
Secretary.

[FR Doc. 2012-13279 Filed 5-31-12; 8:45 am]

BILLING CODE 6717-01-P